DEPARTMENT OF TRANSPORTATION

Federal Railroad Administration

[Docket Number FRA-2006-24216]

Petition for Waiver of Compliance

Under part 211 of Title 49 Code of Federal Regulations (CFR), this document provides the public notice that on February 28, 2017, and March 27, 2017, the Sacramento Regional Transit District (RT) petitioned the Federal Railroad Administration (FRA) for an extension of an amendment to its existing waiver of compliance from certain provisions of the Federal railroad safety regulations contained at 49 CFR part 222-Use of Locomotive Horns at Public Highway Rail Grade Crossings, 49 CFR 229.125-Headlights and auxiliary lights, and 49 CFR 234.105(c)(3)—Activation failure. RT is also requesting a change of the waiver's scope to include regulatory relief for new service on a 4-mile extension of its Blue Line which runs south to Cosumnes River College. FRA assigned the petition Docket Number FRA-2006-24216.

RT seeks to modify and extend the terms and conditions of its shared use waivers for portions of its rail fixed guideway public transit Blue Line and Gold Line (also known as Folsom Line) that share corridors, including highway-rail grade crossings, with the Union Pacific Railroad (UP).

FRA most recently granted conditional relief to RT from the regulatory sections specified above in 2012. FRA notes that the relief from the requirements of 49 CFR part 222 is currently applicable only at the 17 shared highway-rail grade crossings on the Gold Line. On August 4, 2015, RT extended its Blue Line to Cosumnes River College Station, adding four station stops. RT would like to expand the scope of all relief granted to date to include this Blue Line extension to Cosumnes River College Station.

This Blue Line extension added one additional shared grade crossing at Meadowview Road. After crossing Meadowview Road, the light rail alignment immediately moves out of the shared right-of-way and into exclusive RT right-of-way. For the short distance that the Blue Line extension is in the shared corridor with UP, there is a 50-foot track separation between the two rail operations. Due to the distance separating the tracks in the shared corridor, RT does not require special procedures for operating past either stopped or moving UP trains.

RT states that the Meadowview crossing was redesigned to accommodate RT's light rail system, was placed into service with the approval of the California Public Utilities Commission, and was added to RT's Operations and Maintenance Agreement with UP covering joint operations in the shared corridor. There have been no significant incidents involving the Meadowview crossing since RT began its operations. RT notes that this crossing is also a part of the City of Sacramento's quiet zone for this corridor.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 15, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2017-08681 Filed 4-28-17; 8:45 am]

BILLING CODE 4910-06-P